DEPARTMENT OF TRANSPORTATION

National Highway Traffic Safety Administration

[Docket No. NHTSA-2014-0047; Notice 2]

Mitsubishi Motors North America, Inc., Grant of Petition for Decision of Inconsequential Noncompliance

AGENCY: National Highway Traffic Safety Administration (NHTSA), Department of Transportation (DOT).

ACTION: Grant of Petition.

SUMMARY: Mitsubishi Motors North America, Inc. (MMNA) has determined that certain model year (MY) 2014 Mitsubishi Outlander Sport multipurpose passenger vehicles (MPV) do not fully comply with paragraph S6 of Federal Motor Vehicle Safety Standard (FMVSS) No. FMVSS 205, Glazing Materials. MMNA has filed an appropriate report dated April 3, 2014, pursuant to 49 CFR part 573, Defect and Noncompliance Responsibility and Reports.

ADDRESSES: For further information on this decision contact Mr. Luis Figueroa, Office of Vehicle Safety Compliance, the National Highway Traffic Safety Administration (NHTSA), telephone (202) 366-5298, facsimile (202) 366-7002.

SUPPLEMENTARY INFORMATION:

I. MMNA's Petition: Pursuant to 49 U.S.C. 30118(d) and 30120(h) and the rule implementing those provisions at 49 CFR part 556, MMNA has petitioned for an exemption from the notification and remedy requirements of 49 U.S.C. Chapter 301 on the basis that this noncompliance is inconsequential to motor vehicle safety.

Notice of receipt of the petition was published, with a 30-day public comment period, on June 6, 2014 in the Federal Register (79 FR 32814). One comment was received from Joseph Poley. Mr. Poley stated his belief that in the notice of receipt NHTSA incorrectly referred to the subject glazing as “laminated” when it was actually “tempered.” Mr. Poley is correct. In its petition, MMNA referred to the glazing as “tempered.” NHTSA inadvertently referred to the glazing as “laminated” in the notice of receipt. To view the petition, the comment, and all supporting documents log onto the Federal Docket Management System (FDMS) Web site at: http://www.regulations.gov/. Then follow the online search instructions to locate docket number “NHTSA-2014-0047.”

II. Vehicles Involved: Affected are approximately 311 MY 2014 Mitsubishi Outlander Sport MPVs manufactured from February 12, 2014 through February 21, 2014 that contained mislabeled tempered rear door glazing manufactured by Pilkington North America, Inc. (PNA).

III. Noncompliance: MMNA explains that the noncompliance is that the tempered rear door glazing in the subject vehicles was labeled with the incorrect manufacturer's model number. Specifically, the glazing was labeled with PNA model number “M-131” instead of the correct model number “M-129.”

IV. Rule Text: FMVSS No. 205 incorporates ANSI Z26.1-1996 and other industry standards in paragraph S.5.1 by reference. Paragraph S6 of FMVSS No. 205 specifically requires manufacturers to mark the glazing material in accordance with Section 7 of ANSI Z26.1 and to add other markings required by NHTSA. With respect to the subject noncompliance, Section 7 of ANSI Z26.1-1996 specifies that in addition to the item of glazing number and other required markings, the manufacturer shall include a model number which will identify the type of construction of the glazing material.

V. Summary of MMNA's Analyses: MMNA stated its belief that the subject noncompliance relates solely to the product monograms or markings, specifically the use of model number “M-131” instead of “M-129”. These rear door windows otherwise meet all other marking and performance requirements of FMVSS No. 205 and ANSI Z26.1. MMNA also stated its belief that NHTSA previously noted that “The stated purposes of FMVSS No. 205 are to reduce injuries resulting from impact to glazing surfaces, to ensure a necessary degree of transparency in motor vehicle windows for driver visibility, and to minimize the possibility of occupants being thrown through the vehicle windows in collisions” (64 FR 70116). MMNA believes that because the affected glazing fully meets all of the applicable performance requirements of FMVSS No. 205 that the absence of the correct model number on the glazing has no effect upon the ability of the glazing to satisfy those purposes and thus perform in the manner intended by FMVSS No. 205.

MMNA also stated its belief that NHTSA has previously granted other petitions that MMNA believes were similar to the subject petition.

MMNA is not aware of any crashes, injuries, customer complaints, or field reports associated with this condition.

MMNA has additionally informed NHTSA that it has corrected the noncompliance so that all future production vehicles will comply with FMVSS No. 205.

In summation, MMNA believes that the described noncompliance of the subject vehicles is inconsequential to motor vehicle safety, and that its petition, to exempt from providing recall notification of noncompliance as required by 49 U.S.C. 30118 and remedying the recall noncompliance as required by 49 U.S.C. 30120 should be granted.

NHTSA Decision:

NHTSA Analysis: FMVSS No. 205 specifies labeling and performance requirements for automotive glazing. FMVSS No. 205 incorporates ANSI Z26.1 (1996) and other industry standards by reference (S.5.1). Paragraph S6 of FMVSS No. 205 requires manufacturers to mark glazing material in accordance with Section 7 of ANSI Z26.1 (1996) and to add other specific markings required by NHTSA. Section 7 of ANSI Z26.1 (1996) specifies that in addition to other markings required, the manufacturer shall include a model number which will identify the type of construction of the glazing material.

According to the petition, the nature of the noncompliance is the incorrect model number as required in FMVSS No. 205 and ANSI Z26.1 (1996). Mitsubishi has certified that the window complies with all other safety performance requirements of FMVSS No. 205. NHTSA believes that the incorrect model number is inconsequential to vehicle safety since the unmarked glazing complies with the other labeling and performance requirements of the standard. Also, NHTSA believes that the noncompliance would not result in inadvertent replacement of the windows with the wrong glazing because the population with the labeling noncompliance will not be available as replacement/service parts. Mitsubishi has returned all affected glazing to the glazing manufacturer, with the exception of the 311 glazing units that were installed in vehicles destined to be sold in the USA, and the manufacturer scrapped the remainder of the affected population.

NHTSA Decision: In consideration of the foregoing, NHTSA has decided that MMNA has met its burden of persuasion that the FMVSS No. 205 noncompliance is inconsequential to motor vehicle safety. Accordingly, MMNA's petition is hereby granted and MMNA is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant vehicles that MMNA no longer controlled at the time it determined that the noncompliance existed. However, the granting of this petition does not relieve vehicle distributors and dealers of the prohibitions on the sale, offer for sale, or introduction or delivery for introduction into interstate commerce of the noncompliant vehicles under their control after MMNA notified them that the subject noncompliance existed.

Authority: 49 U.S.C. 30118, 30120: Delegations of authority at 49 CFR 1.95 and 501.8.

Jeffrey M. Giuseppe,
Acting Director Office of Vehicle Safety Compliance.

[FR Doc. 2014-19967 Filed 8-21-14; 8:45 am]

BILLING CODE 4910-59-P